DEPARTMENT OF HOMELAND SECURITY

Office of Compliance and Security

DHS NPPD Visitor Request Form Collection

AGENCY: National Protection and Programs Directorate, DHS.

ACTION: 30-day notice and request for comments; New Collection, 1670-NEW.

SUMMARY: The Department of Homeland Security (DHS), National Protection and Programs Directorate (NPPD), Office of Compliance and Security (OCS), will submit the following Information Collection Request to the Office of Management and Budget (OMB) for review and clearance in accordance with the Paperwork Reduction Act of 1995. DHS previously published this information collection request (ICR) for a 60-day public comment period. No comments were received by DHS. The purpose of this notice is to allow an additional 30 days for public comments.

DATES: Comments on the ICR first published in the Federal Register on Wednesday, May 17, 2017 at 82 FR 22673 are encouraged and will be accepted until September 28, 2017. This process is conducted in accordance with 5 CFR 1320.1.

ADDRESSES: Interested persons are invited to submit written comments on the proposed information collection to the Office of Information and Regulatory Affairs, Office of Management and Budget. Comments should be addressed to OMB Desk Officer, Department of Homeland Security and sent via electronic mail to dhsdeskofficer@omb.eop.gov. All submissions received must include the words “Department of Homeland Security” and 1670-NEW—NPPD Visitor Request Form.

Comments submitted in response to this notice may be made available to the public through relevant Web sites. For this reason, please do not include in your comments information of a confidential nature, such as sensitive personal information or proprietary information. If you send an email comment, your email address will be automatically captured and included as part of the comment that is placed in the public docket and made available on the Internet. Please note that responses to this public comment request containing any routine notice about the confidentiality of the communication will be treated as public comments that may be made available to the public notwithstanding the inclusion of the routine notice.

SUPPLEMENTARY INFORMATION: Public Law 107-296, The Homeland Security Act of 2002, Title II, recognizes the Department's role in integrating relevant critical infrastructure and cybersecurity information, analyses, and vulnerability assessments (whether such information, analyses, or assessments are provided or produced by the Department or others) in order to identify priorities for protective and support measures by the Department, other agencies of the Federal Government, State and local government agencies and authorities, the private sector, and other entities while maintaining positive control of sensitive information regarding the national infrastructure. In support of this mission, the National Protection and Programs Directorate Office of Compliance and Security must maintain a robust visitor screening capability.

The Office of Compliance and Security will collect, using an electronic form, information about each potential visitor to NPPD facilities and the nature of each visit. The Office of Compliance and Security will use collected information to make a risk-based decision to allow visitor access to NPPD facilities.

This is a new information collection. The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Office of Compliance and Security, National Protection and Programs Directorate, DHS.

Title: Agency Information Collection Activities: NPPD Visitor Request Form.

OMB Number: 1670-NEW.

Frequency: Annually.

Affected Public: Private and Public Sector.

Number of Respondents: 20,000.

Estimated Time per Respondent: 10 minutes.

Total Burden Hours: 3,333 hours.

Dated: August 24, 2017.
David Epperson,
Chief Information Officer.

[FR Doc. 2017-18307 Filed 8-28-17; 8:45 am]

BILLING CODE 9110-09-P